FEDERAL COMMUNICATIONS COMMISSION

Notice of Public Information Collection(s) Being Submitted for Review to the Office of Management and Budget

May 13, 2008.

SUMMARY: The Federal Communications Commission, as part of its continuing effort to reduce paperwork burden invites the general public and other Federal agencies to take this opportunity to comment on the following information collection(s), as required by the Paperwork Reduction Act (PRA) of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before July 18, 2008. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via internet at Nicholas_A._Fraser@omb.eop.gov and to Judith-B.Herman@fcc.gov, Federal Communications Commission, or an e-mail to PRA@fcc.gov. To view a copy of this information collection request (ICR) submitted to OMB: (1) Go to the Web page http://www.reginfo.gov/public/do/PRAMain, (2) look for the section of the web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information, contact Judith B. Herman at 202-418-0214 or via the Internet at Judith-B.Herman@fcc.gov.

SUPPLEMENTARY INFORMATION: OMB Control Number: 3060-XXXX.

Title: International Special Projects (ISP) Petitions for Declaratory Ruling.

Form Nos.: N/A.

Type of Review: New collection.

Respondents: Business or other for-profit.

Number of Respondents: 18 respondents; 18 responses.

Estimated Time per Response: 1 hour.

Frequency of Response: On occasion reporting requirement.

Obligation to Respond: Voluntary.

Total Annual Burden: 18 hours.

Total Annual Cost: N/A.

Privacy Act Impact Assessment: N/A.

Nature and Extent of Confidentiality: In general, there is no need for confidentiality.

Needs and Uses: The Federal Communications Commission (“FCC”) proposes to establish a new information collection (IC) titled “International Special Projects (ISP) Petitions for Declaratory Ruling.” The purpose of this information collection is to facilitate the public's voluntary filing of miscellaneous requests with the FCC, such as a waiver of the Commission's rules or foreign ownership matters, in an electronic module in the International Bureau's Filing System (IBFS). Filers have the option to upload paper copies of documents in IBFS in lieu of mailing documents to the FCC Secretary's Office. However, they may file documents in the FCC Secretary's Office by postal mail instead of filing them electronically in IBFS. The filing of documents in IBFS saves time and costs for the general public since they would save the cost of postage to mail the documents to the FCC. It also guarantees that when the respondents “submit” their documents in IBFS, those documents are received at the FCC on the same day.

Furthermore, FCC staff and members of the public can track the receipt and status of documents received electronically in the IBFS.

Federal Communications Commission.
Marlene H. Dortch,
Secretary.

[FR Doc. E8-11018 Filed 5-16-08; 8:45 am]

BILLING CODE 6712-01-P